ENVIRONMENTAL PROTECTION AGENCY

40 CFR Part 438

[FRL-6941-8]

RIN 2040-AB79

Effluent Limitations Guidelines, Pretreatment Standards, and New Source Performance Standards for the Metal Products and Machinery Point Source Category; Announcement of Meeting

AGENCY: Environmental Protection Agency (EPA).

ACTION: Announcement of meeting.

SUMMARY: EPA is conducting an additional public meeting and hearing on the pretreatment standards for the Metal Products and Machinery (MP&M) proposed rule in Chicago, Illinois on March 8, 2001.

EPA proposed effluent limitations guidelines and standards for the MP&M Industry in the Federal Register on January 3, 2001 (66 FR 425). In that document EPA announced public meetings and pretreatment hearings in three locations: Oakland, CA; Dallas, TX; and Washington, DC. Based on stakeholder requests, EPA is adding an additional public meeting and pretreatment hearing in Chicago, IL. For information on the specific location, see the ADDRESSES section below.

DATES: EPA is conducting a public meeting (9:00 AM-12:00 PM) and hearing on the pretreatment standards (1:00 PM-4:00 PM) for the MP&M proposed rule on March 8, 2001.

ADDRESSES: The Metal Products and Machinery public meeting and pretreatment hearing will be held at the EPA Region 5 offices in the Metcalfe Federal Building, 77 West Jackson Blvd., Room 331, Chicago, IL (312) 353-2000.

FOR FURTHER INFORMATION CONTACT: Mr. Michael Ebner at (202) 260-5397 or Ms. Shari Barash at (202) 260-7130 or by E-mail: ebner.michael@epa.gov or barash.shari@epa.gov.

SUPPLEMENTARY INFORMATION: During the public meeting, EPA will present information on the applicability of the proposed regulation, the technology options selected as the basis for the proposed limitations and standards, and the compliance costs and pollutant reductions. EPA will also allow time for questions and answers during this session. During the pretreatment hearing, the public will have the opportunity to provide oral comment to EPA. EPA will not address any issues raised during the pretreatment hearing at that time, but these comments will be recorded and included in the public record for the rule. Persons wishing to present formal comments at the public hearing should contact Mr. Michael Ebner before the hearing and should have a written copy of their comments for submittal.

Documents related to the proposed regulation are available on the MP&M web site (http://www.epa.gov/ost/guide/mpm/rule.html).

If you wish to submit written comments on the proposed MP&M rule, the comment period closes on May 3, 2001. Please see the Notice of Proposed Rulemaking in the Federal Register (66 FR 425; January 3, 2001) for information on “How to Submit Comments.”

Geoffrey H. Grubbs,
Director, Office of Science and Technology.

[FR Doc. 01-3089 Filed 2-5-01; 8:45 am]

BILLING CODE 6560-50-P